OFFICE OF PERSONNEL MANAGEMENT

Civilian Acquisition Workforce Personnel Demonstration Project; Department of Defense

AGENCY: Office of Personnel Management.

ACTION: Notice of amendment to this demonstration to facilitate the transition of Acquisition Demonstration Project employees to the National Security Personnel System (NSPS) by authorizing an out-of-cycle Contribution-based Compensation and Appraisal System (CCAS) payout and amending conversion-out procedures.

SUMMARY: The Department of Defense (DoD or “the Department”), with the approval of the Office of Personnel Management (OPM), received authority to conduct a personnel demonstration project within DoD's civilian acquisition workforce and those supporting personnel assigned to work directly with it. [See Section 4308 of the National Defense Authorization Act for Fiscal Year 1996 (Pub. L. 104-106; 10 U.S.C.A. section 1701 note), as amended by section 845 of the National Defense Authorization Act for Fiscal Year 1998 (Pub. L. 105-85)]. The project was developed under legislative authority granted in Fiscal Year 1996 and modified in Fiscal Year 1998. Subsequent legislation authorized establishment of NSPS, a human resources management system for DoD under 5 U.S.C. 9902, as enacted by section 1101 of the National Defense Authorization Act for Fiscal Year 2004 (Pub. L. 108-136). This notice provides authorization for an out-of-cycle payout under CCAS prior to transition to NSPS and addresses procedures for conversion of employees from this demonstration project to NSPS.

DATES: This amendment is effective upon publication of this notice.

FOR FURTHER INFORMATION CONTACT: DoD: Mary S. Thomas, Civilian Acquisition Workforce Personnel Demonstration Project, 2001 North Beauregard Street, Suite 210, Alexandria, VA 22311, 703-681-3508. OPM: Michael Carmichael, U.S. Office of Personnel Management, 1900 E Street NW., Room 7412, Washington, DC 20415, 202-606-1868.

SUPPLEMENTARY INFORMATION:

1. Background

OPM approved and published the project plan for the Civilian Acquisition Workforce Personnel Demonstration Project in the Federal Register on January 8, 1999 (Volume 64, Number 5, Part VII). Since that time, three amendments have been published. The first amendment was published in the May 21, 2001, Federal Register, Volume 66, Number 98, to (1) correct discrepancies in the list of occupational series included in the project and (2) authorize managers to offer a buy-in to Federal employees entering the project after initial implementation. A second amendment was published in the April 24, 2002, Federal Register, Volume 67, Number 79, to (1) make employees in the top broadband level of their career path eligible to receive a “very high” overall contribution score and (2) reduce the minimum rating period under CCAS to 90 consecutive calendar days. Finally, the third amendment was published in the July 1, 2002, Federal Register, Volume 67, Number 126, to (1) list all organizations that are eligible to participate in the project and (2) make the resulting adjustments to the table that describes the project's workforce demographics and union representation. This demonstration project involves hiring and appointment authorities; broadbanding; simplified classification; a contribution-based compensation and appraisal system; revised reduction-in-force procedures; academic degree and certificate training; and sabbaticals.

2. Overview

This amendment provides the authority to individual DoD Components to conduct an out-of-cycle CCAS payout prior to transition to NSPS. Prior to transition of any demonstration project employees to NSPS, a CCAS closeout appraisal must be accomplished and an out-of-cycle payout may be made. The required funding floors [not less than two percent of an activity's total salary budget for Contribution Rating Increases (CRIs) and not less than one percent of an activity's total salary budget for Contribution Awards (CAs)] may be suspended for any out-of-cycle payout. This amendment also provides authority to convert employees from this demonstration project to NSPS in accordance with DoD implementing issuances pursuant to 5 U.S.C. 9902. Office of Personnel Management.

Linda M. Springer,
Director.

I. Executive Summary

The project was designed by a Process Action Team (PAT) under the authority of the Under Secretary of Defense for Acquisition and Technology, with the participation of and review by DoD and OPM. The purpose of the project is to enhance the quality, professionalism, and management of the DoD acquisition workforce through improvements in the human resources management system.

II. Introduction

This demonstration project provides managers, at the lowest practical level, the authority, control, and flexibility they need to achieve quality acquisition processes and quality products. This project not only provides a system that retains, recognizes, and rewards employees for their contribution, but also supports their personal and professional growth.

A. Purpose

The purpose of this amendment is to ensure that demonstration employees are not inadvertently penalized, but receive their earned contribution-based permanent pay increases and/or contribution awards, upon transition to NSPS. Additionally, since the current demonstration project plan only contains conversion-out procedures for employees converting back to General Schedule positions, this amendment will authorize conversion-out procedures for employees transitioning to NSPS. Pursuant to 5 CFR 470.315, an amendment is hereby made to the Federal Register, Civilian Acquisition Workforce Personnel Demonstration Project; Department of Defense; Notice, Friday, January 8, 1999, Volume 64, Number 5, Part VII.

B. Employee Notification and Collective Bargaining Requirements

The demonstration project program office shall notify employees of this amendment by posting it on the demonstration's Web site (http://www.acq.osd.mil/dpap/policy/acqdemo/ index.htm). Participating organizations must fulfill any collective bargaining obligations to unions that represent employees covered by the demonstration.

III. Personnel System Changes

[64 FR 1452] Section III.D.1. Contribution-Based Compensation and Appraisal System. Insert the following new paragraph after the 2nd paragraph: “As described in detail below, the CCAS uses performance factors to measure contributions for appraisal purposes. Any AcqDemo organization scheduled to transition to the National Security Personnel System (NSPS) may notify affected employees that, as of a specified date, the performance appraisal provisions of Section III.D. shall cease to apply, and that appropriate performance management standards may be substituted for CCAS performance factors until the organization is covered by NSPS.”

[64 FR 1477] Section III.D.4. Pay Pools. Amend the last sentence of the last paragraph to read, “The funds to be included in the pay pool will be computed based on the salaries of the employees in the pay pool as of the last calendar day of the CCAS appraisal period.”

[64 FR 1478] Section III.D.5. Salary Adjustment Guidelines. Insert as last sentence in 4th paragraph (that begins “The contribution rating increase* * *”): In the event of an out-of-cycle payout (see Section V.C.), this funding floor may be suspended.

[64 FR 1478] Section III.D.5. Salary Adjustment Guidelines. Insert as last sentence in 5th paragraph (that begins “The contribution award fund* * *”): In the event of an out-of-cycle payout (see Section V.C.), this funding floor may be suspended.

[64 FR 1484] Section V.C. [Added.] C. Conversion to the National Security Personnel System (NSPS). Prior to transition of any demonstration project employees to NSPS, a CCAS closeout appraisal must be accomplished and an out-of-cycle payout may be made. Funding levels for out-of-cycle payouts may be reduced on a pro rata basis if the period between the previous CCAS payout and the out-of-cycle payout was less than one year. Funding that corresponds to the general pay increase shall not form part of the pay pools for any out-of-cycle payouts. Thereafter, conversion of employees covered by this demonstration to NSPS shall be accomplished in accordance with NSPS implementing issuances published by the Department. The General Schedule conversion procedures regarding reduction-in-force service credit (i.e., Section V.B.4. of the existing demonstration project plan) shall not apply to employees converted from the demonstration to NSPS, because after conversion to NSPS, the Department will determine retention standing solely on the basis of the NSPS final regulations at 5 CFR part 9901, subpart F, and related implementing issuances.

[FR Doc. E6-16261 Filed 10-3-06; 8:45 am]

BILLING CODE 6325-43-P